DEPARTMENT OF COMMERCE

International Trade Administration

[A-533-875]

Fine Denier Polyester Staple Fiber From India: Final Results of Antidumping Duty Administrative Review; 2018-2019

AGENCY: Enforcement and Compliance, International Trade Administration, Department of Commerce.

SUMMARY: The Department of Commerce (Commerce) has continued to base the dumping margin for the sole respondent under review, Reliance Industries Limited (RIL), on total adverse facts available (AFA), pursuant to sections 776(a) and (b) of the Tariff Act of 1930, as amended (the Act). The period of review (POR) is January 5, 2018 through June 30, 2019.

DATES: Applicable June 1, 2021.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

Commerce (Commerce) published the preliminarily results of this administrative review on November 23, 2020.¹ In response to Commerce's invitation to comment on the Preliminary Results, RIL filed comments ² and the petitioners ³ filed rebuttal comments on December 30, 2020 and January 6, 2021, respectively.⁴ On March 16, 2021, Commerce extended the deadline for issuing the final results of this review from March 23, 2021 to May 24, 2021.⁵

¹ See Fine Denier Polyester Staple Fiber from India: Preliminary Results of Antidumping Duty Administrative Review; 2018-2019, 85 FR 74688 (November 23, 2020) (Preliminary Results).

² See RIL's Letter, “Fine Denier Polyester Staple Fiber from India: Reliance Industries Limited's Case Brief,” dated December 30, 2020.

³ Auriga Polymers Inc., DAK Americas LLC, and Nan Ya Plastics Corporation, America (collectively, the petitioners).

⁴ See Petitioners' Letter, “Fine Denier Polyester Staple Fiber from India: Petitioners' Rebuttal Brief,” dated January 6, 2021.

⁵ See Memorandum, “Fine Denier Polyester Staple Fiber from India: Extension of Deadline for Final Results of Antidumping Duty Administration Review,” dated March 16, 2021.

Commerce conducted this administrative review in accordance with section 751(a) of the Act.

Scope of the Order

The product covered by the scope of the antidumping duty order for this proceeding is fine denier polyester staple fiber (fine denier PSF) from India. For a complete description of the scope, see the Issues Decision Memorandum.⁶

⁶ See Memorandum, “Decision Memorandum for the Final Results of the Antidumping Duty Administrative Review of Fine Denier Polyester Staple Fiber from India; 2018-2019,” dated concurrently with, and hereby adopted by, this notice (Issues and Decision Memorandum).

Analysis of the Comments Received

We addressed all issues raised in the case and rebuttal briefs submitted by parties in this review in the Issues and Decision Memorandum. A list of the sections in the Issues and Decision Memorandum is in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/.

Changes Since the Preliminary Results

We calculated the cash deposit rate for RIL by offsetting its final dumping margin by the export subsidy rate calculated for RIL in the most recently completed segment of the companion countervailing duty (CVD) proceeding rather than offsetting it by the export subsidy rate calculated for RIL in the investigation in the companion CVD proceeding. We made no other changes since the Preliminary Results.

Use of Adverse Facts Available

Pursuant to sections 776(a) and 776(b) of the Act, Commerce continues to base RIL's dumping margin on total AFA because it withheld information requested for sales and cost reconciliations, did not provide accurate control numbers, as requested by Commerce and in conformity with Commerce's instructions, and did not provide requested information regarding companies owned by family members. We have continued to use an AFA rate of 21.43 percent, which is the AFA rate applied to RIL in the less-than-fair-value investigation in this proceeding.⁷

⁷ See Fine Denier Polyester Staple Fiber from India: Final Affirmative Antidumping Determination of Sales at Less Than Fair Value, 83 FR 24737 (May 30, 2018), and accompanying Issues and Decision Memorandum (Final Determination).

Final Results of the Review

We are assigning the following dumping margin to the firm listed below for the period January 5, 2018 through June 30, 2019:

Exporter/producer | Estimated weighted- average dumping margin (percent) | Cash deposit rate adjusted for subsidy offset (percent)
Reliance Industries Limited | 21.43 | 19.89

Disclosure

Normally, Commerce discloses to interested parties the calculations performed in connection with final results of an administrative review within five days of its public announcement or, if there is no public announcement, within five days of the date of publication of this notice in accordance with 19 CFR 351.224(b). However, because Commerce applied total AFA to the mandatory respondent under review in accordance with section 776 of the Act, there are no calculations to disclose.

Assessment Rates

Pursuant to section 751(a)(2)(C) of the Act and 19 CFR 351.212(b), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of fine denier PSF from India entered, or withdrawn from warehouse, for consumption on or after the date of publication of this notice of the final results of this administrative review in the Federal Register, as provided for by section 751(a)(2)(C) of the Act: (1) The cash deposit rate for RIL will be equal to the cash deposit rate listed for RIL in the table above; (2) for merchandise exported by manufacturers or exporters not covered by this review, but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 14.67 percent ad valorem, the all-others cash deposit rate established in the less-than-fair-value investigation.⁸ These cash deposit requirements, when imposed, shall remain in effect until further notice.

⁸ See Final Determination, 83 FR at 24737.

Notification to Importers

This notice serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these final results and this notice in accordance with sections 751(a)(1) and 777(i)(1) of the Act.

Dated: May 24, 2021.
Christian Marsh,
Acting Assistant Secretary for Enforcement and Compliance.

Appendix

List of Sections in the Issues Decision Memorandum

I. Summary

II. Background

III. Scope of the Order

IV. Discussion of the Issues

Comment 1: Whether Commerce Should Continue to Apply Total AFA

A. Reconciliations

B. CONNUMs

C. Affiliations

V. Recommendation

[FR Doc. 2021-11463 Filed 5-28-21; 8:45 am]

BILLING CODE 3510-DS-P